DEPARTMENT OF HEALTH AND HUMAN SERVICES

Health Resources and Services Administration

Meeting of the Council on Graduate Medical Education

AGENCY: Health Resources and Service Administration (HRSA), Department of Health and Human Services (HHS).

ACTION: Notice.

SUMMARY: In accordance with the Federal Advisory Committee Act, this notice announces that the Council on Graduate Medical Education (COGME) has scheduled a public meeting. Information about COGME and the agenda for this meeting can be found on the COGME website at: https://www.hrsa.gov/advisory-committees/graduate-medical-edu/index.html.

DATES: Monday, August 12, 2019, 9:00 a.m.-5:00 p.m. Eastern Time.

ADDRESSES: This meeting will be held by webinar only.

• Conference call-in number: 1-888-455-0640.

• Passcode: HRSA COUNCIL (voice response).

• Webinar link: https://hrsa.connectsolutions.com/cogme.

FOR FURTHER INFORMATION CONTACT: Kennita R. Carter, MD, Designated Federal Official (DFO), Division of Medicine and Dentistry, Bureau of Health Workforce, HRSA, 5600 Fishers Lane, 15N-116, Rockville, Maryland 20857; 301-945-3505; or KCarter@hrsa.gov.

SUPPLEMENTARY INFORMATION: COGME makes recommendations to the Secretary of HHS (Secretary) and Congress on policy, program development, and other matters of significance as specified by section 762 of Title VII of the Public Health Service (PHS) Act. Issues addressed by COGME include: The supply and distribution of the physician workforce in the United States, including any projected shortages or excesses; foreign medical school graduates; the nature and financing of undergraduate and graduate medical education; appropriation levels for certain programs under Title VII of the PHS Act; and deficiencies in databases of the supply and distribution of the physician workforce and postgraduate programs for training physicians. Additionally, COGME encourages entities providing graduate medical education to conduct activities that will voluntarily achieve the recommendations of the council. COGME submits reports to the Secretary of HHS; the Senate Committee on Health, Education, Labor, and Pensions; and the House of Representatives Committee on Energy and Commerce.

During the August 12, 2019, meeting, COGME will discuss the topic of the rural health workforce. Agenda items are subject to change as priorities dictate. Refer to the COGME website for any updated information concerning the meeting. The meeting agenda will be available on the COGME website at least 10 business days prior to the meeting.

Members of the public will have the opportunity to provide comments. Public participants may submit written statements in advance of the scheduled meeting. Oral comments will be honored in the order they are requested and may be limited as time allows. Requests to provide written statements or make oral comments to COGME should be sent to Kennita R. Carter, MD, DFO, using the contact information above at least three business days prior to the meeting.

Maria G. Button,
Director, Division of the Executive Secretariat.

[FR Doc. 2019-13712 Filed 6-26-19; 8:45 am]

BILLING CODE 4165-15-P